DEPARTMENT OF ENERGY

Federal Energy Regulatory Commission

[Docket Nos. RP99-176-027, RP99-176-028, RP99-176-029, and RP99-176-030]

Natural Gas Pipeline Company of America; Notice of Compliance Filing

January 9, 2001.

Take notice that on January 4, 2001, Natural Gas Pipeline Company of America (Natural) tenders for filing with the Commission, its FTS-SW Agreement No. 118138, in Docket Nos. RP99-176-027 and RP99-176-028.

Natural as also tendered for filing to become part of its FERC Gas Tariff, Sixth Revised Volume No. 1, in Docket Nos. RP99-176-029 and RP99-176-030, the following tariff sheets, to be effective November 22, 2000:

Fourteenth Revised Sheet No. 3

Substitute Original Sheet No. 260

Original Sheet No. 414

Sheet Nos. 415-499

Natural states that the purpose of this filing is to comply with the Commission's “Order Accepting Tariff Sheet and Negotiated Rate Agreement Subject to Conditions” issued on December 20, 2000, in Docket Nos. RP99-176-022 and RP99-176-023 (Order).

Natural requests waiver of the Commission's Regulations to the extend necessary to permit the revised tariff sheets to become effective November 22, 2000.

Natural states that copies of the filing are being mailed to all parties set out on the Commission's official service list in Docket No. RP99-176.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in Determining the appropriate action to be taken, but will not serve to make protestants parties to the proceedings. Copies of this filing are on file with the Commission and are available for public inspection in the Public Reference Room. This filing may be viewed on the web at http://www.ferc.fed.us/online/rims.htm (call 202-208-2222 for assistance). Comments and protests may be filed electronically via the internet in lieu of paper. See, 18 CFR 385.2001(a)(1)(iii) and the instructions on the Commission's web site at http://www.ferc.fed.us/efi/doorbell.htm.

David P. Boergers,
Secretary.

[FR Doc. 01-1142 Filed 1-12-01; 8:45 am]

BILLING CODE 6717-01-M